DEPARTMENT OF COMMERCE

National Oceanic and Atmospheric Administration

[I.D. 092206C]

North Pacific Fishery Management Council; Public Meeting

AGENCY: National Marine Fisheries Service (NMFS), National Oceanic and Atmospheric Administration (NOAA), Commerce.

ACTION: Notice of a public committee meeting.

SUMMARY: The North Pacific Fishery Management Council's (Council) Steller Sea Lion Mitigation Committee (SSLMC) will meet in Anchorage, AK.

DATES: The meetings will be held on October 16-18, 2006, 8:30 a.m. to 5 p.m.

ADDRESSES: The meetings will be held at the Hawthorne Suites, 1110 West 8th Avenue, Anchorage, AK.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The issues to be discussed: Minutes of last meeting; review comments on proposal ranking tool from Scientific and Statistical Committee (SSC); refine proposal ranking tool as appropriate, receive report on Board of Fisheries meeting of October 14-15; receive presentations on proposals from submitters; discuss proposals; discuss Adaptive Management Subcommittee Report.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: September 25, 2006.
Tracey L. Thompson,
Acting Director, Office of Sustainable Fisheries, National Marine Fisheries Service.

[FR Doc. E6-15918 Filed 9-27-06; 8:45 am]

BILLING CODE 3510-22-S